FEDERAL HOUSING FINANCE AGENCY

[No. 2014-N-9]

Fannie Mae and Freddie Mac Draft Private Mortgage Insurer Eligibility Requirements: Request for Public Input

AGENCY: Federal Housing Finance Agency.

ACTION: Notice; input accepted.

The Federal Housing Finance Agency (FHFA), acting in its capacity as Conservator, is requesting public input on the draft eligibility requirements that the Federal National Mortgage Association (Fannie Mae) and the Federal Home Loan Mortgage Corporation (Freddie Mac) would use to approve private mortgage insurers that provide mortgage insurance on loans owned or guaranteed by Fannie Mae and Freddie Mac. Additional information about the draft eligibility requirements and the process for submitting input can be found on FHFA's Web site and accessed through the following link: www.fhfa.gov/open-for-comment-or-input.

FHFA requests that input be submitted no later than September 8, 2014. Submitted responses will be posted without change, including personal information such as name, street address, email address, and telephone number on http://www.fhfa.gov. If you are unable to view the documents online you may request a paper copy by contacting Rona Richardson by phone at (202) 649-3224, by email at Rona.Richardson@fhfa.gov, or in writing at the Federal Housing Finance Agency, Constitution Center, 9th Floor (OHRP), 400 7th Street SW., Washington, DC 20024.

Dated: July 15, 2014.
Melvin W. Watt,
Director, Federal Housing Finance Agency.

[FR Doc. 2014-17139 Filed 7-21-14; 8:45 am]

BILLING CODE 8070-01-P